DEPARTMENT OF COMMERCE

National Oceanic and Atmospheric Administration

RIN 0648-XH024

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet June 3, 2019 through June 10, 2019.

DATES: The meetings will be held June 3, 2019 through June 10, 2019. See SUPPLEMENTARY INFORMATION for specific dates and times.

ADDRESSES: The Council meeting will be held at the Harrigan Centennial Hall, 330 Harbor Dr., Sitka, AK 99835. The Community Engagement Committee and the Ecosystem Committee will be held at Westmark Hotel, 330 Seward St., Sitka, AK 99835. The Enforcement Committee will be held at the Aspen Suites Hotel, 210 Lake St., Sitka, AK 99835.

Council address: North Pacific Fishery Management Council, 605 W 4th Ave., Suite 306, Anchorage, AK 99501-2252; telephone: (907) 271-2809.

FOR FURTHER INFORMATION CONTACT: Diana Evans, Council staff; telephone: (907) 271-2809.

SUPPLEMENTARY INFORMATION: The Council will begin its plenary session at 8 a.m. in the King Room on Wednesday, June 5, 2019 continuing through Monday, June 10, 2019. The Council's Scientific and Statistical Committee (SSC) will begin at 8 a.m. in the Raven Room on Monday, June 3, 2019 and continue through Wednesday, June 5, 2019. The Council's Advisory Panel (AP) will begin at 8 a.m. in the Silver/Chum Room on Tuesday, June 4, 2019 and continue through Friday, June 7, 2019. The Community Engagement Committee will meet on Tuesday, June 4, 2019 from 8 a.m. to 12 p.m. in the Council Room at the Westmark Hotel, 330 Seward St., Sitka, AK 99835. The Ecosystem Committee will meet on Tuesday, June 4, 2019 from 1 p.m. to 5 p.m. in the Council Room at the Westmark Hotel, 330 Seward St., Sitka, AK 99835. The Enforcement Committee will meet on Tuesday, June 4, 2019 from 1 p.m. to 5 p.m. in the Raven's Room at the Aspen Suites Hotel, 210 Lake St., Sitka, AK 99835.

Agenda

Monday, June 3, 2019 Through Monday, June 10, 2019

Council Plenary Session: The agenda for the Council's plenary session will include the following issues. The Council may take appropriate action on any of the issues identified.

(1) Executive Director's Report (including CCC update, Legislative update, October meeting logistics)

(2) NMFS Management Report

(3) NOAA GC Report

(4) NOAA Enforcement Report

(5) ADF&G Report

(6) USCG Report

(7) USFWS Report

(8) BSAI Crab: (a) SAFE report for AIGKC, PIBKC; (b) Crab Plan Team Report; and (c) St Matthew Blue King Crab rebuilding plan progress report

(9) GOA pollock/cod seasons, allocations—Final Action

(10) Observer 2018 Annual Report

(11) Crab Partial Deliveries

(12) Sculpins to ecosystem component

(13) CQE Fish-up in 3A—Final Action

(14) Salmon bycatch: (a) 2018 reports (IPA reports, GOA Chinook NMFS report, SeaShare); (b) Salmon genetics 2017 review for BS and GOA; and (c) Council salmon bycatch workshop report

(15) BSAI cod allocation review

(16) AI trawl set aside

(17) St. George Unangan proposal as National Sanctuary Designation

(18) IFQ access opportunities

(19) Bering Sea Fishery Ecosystem Plan Team Report

(20) Social Science Planning Team Report

(21) Community Engagement Committee Report

(22) Staff Tasking

The Advisory Panel will address Council agenda items (8-16) and (18-22).

The SSC agenda will include the following issues:

(1) BSAI Crab: (a) SAFE report for AIGKC, PIBKC; (b) Crab Plan Team Report; (c) St Matthew Blue King Crab rebuilding plan progress report; and (d) review of assessment models for October

(2) Observer 2018 Annual Report

(3) Crab Partial Deliveries

(4) Sculpins to ecosystem component

(5) Salmon bycatch: (a) 2018 reports (IPA reports, GOA Chinook NMFS report, SeaShare); (b) Salmon genetics 2017 review for BS and GOA; and (c) Council salmon bycatch workshop report

(6) BSAI cod allocation review

(7) Bering Sea Fishery Ecosystem Plan Team Report

(8) Social Science Planning Team Report

(9) Tracking research priorities funding report

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Community Engagement Committee will meet to begin reviewing current Council engagement strategies to identify gaps or deficiencies and recommend improvements. Other topics related to Council engagement may be discussed. The Ecosystem Committee will meet to receive updates on the development of the Bering Sea Ecosystem Plan, including the FEP Team report and developments on the action modules, and to continue discussion of the three-year outlook for committee tasking, and other business. The Enforcement Committee will discuss crab partial deliveries and hear a presentation on the enforcement chapter from the 2018 Observer Annual Report, and other business.

The Agendas are subject to change, and the latest versions will be posted at http://www.npfmc.org/.

Public Comment

Public comment letters will be accepted and should be submitted either electronically at: meetings.npfmc.org or through the mail: North Pacific Fishery Management Council, 605 W 4th Ave., Suite 306, Anchorage, AK 99501-2252. Deadline for comments is May 31, 2019, at 12 p.m.

Special Accommodations

These meetings are physically accessible to people with disabilities. Requests for sign language interpretation or other auxiliary aids should be directed to Shannon Gleason at (907) 271-2809 at least 7 working days prior to the meeting date.

Dated: May 6, 2019.
Tracey L. Thompson,
Acting Deputy Director, Office of Sustainable Fisheries, National Marine Fisheries Service.

[FR Doc. 2019-09594 Filed 5-8-19; 8:45 am]

BILLING CODE 3510-22-P